DEPARTMENT OF AGRICULTURE

Animal and Plant Health Inspection Service

9 CFR Part 82

[Docket No. 02-117-9]

Exotic Newcastle Disease; Removal of Areas From Quarantine

AGENCY: Animal and Plant Health Inspection Service, USDA.

ACTION: Interim rule and request for comments.

SUMMARY: We are amending the exotic Newcastle disease regulations by removing portions of Arizona, California, Nevada, and Texas from the list of quarantined areas. This action removes restrictions on the movement of birds, poultry, and certain other articles from those areas. With this action, there are no longer any areas in Arizona, Nevada, and Texas that are quarantined because of exotic Newcastle disease, and the size of the quarantined area in California is reduced.

DATES: This interim rule was effective July 30, 2003. We will consider all comments that we receive on or before October 3, 2003.

ADDRESSES: You may submit comments by postal mail/commercial delivery or by e-mail. If you use postal mail/commercial delivery, please send four copies of your comment (an original and three copies) to: Docket No. 02-117-9, Regulatory Analysis and Development, PPD, APHIS, Station 3C71, 4700 River Road Unit 118, Riverdale, MD 20737-1238. Please state that your comment refers to Docket No. 02-117-9. If you use e-mail, address your comment to regulations@aphis.usda.gov. Your comment must be contained in the body of your message; do not send attached files. Please include your name and address in your message and “Docket No. 02-117-9” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Aida Boghossian, Senior Staff Veterinarian, Emergency Programs Staff, VS, APHIS, 4700 River Road Unit 41, Riverdale, MD 20737-1231; (301) 734-8073.

SUPPLEMENTARY INFORMATION:

Background

Exotic Newcastle disease (END) is a contagious and fatal viral disease affecting the respiratory, nervous, and digestive systems of birds and poultry. END is so virulent that many birds and poultry die without showing any clinical signs. A death rate of almost 100 percent can occur in unvaccinated poultry flocks. END can infect and cause death even in vaccinated poultry.

The regulations in “Subpart A—Exotic Newcastle Disease (END)” (9 CFR 82.1 through 82.16, referred to below as the regulations) were established to prevent the spread of END in the United States in the event of an outbreak. In § 82.3, paragraph (a) provides that any area where birds or poultry infected with END are located will be designated as a quarantined area, and that a quarantined area is any geographical area, which may be a premises or all or part of a State, deemed by epidemiological evaluation to be sufficient to contain all birds or poultry known to be infected with or exposed to END.

Prior to the effective date of this interim rule, portions of Arizona, California, Nevada, and Texas were designated as quarantined areas in § 82.3(c) of the regulations. As a result, the interstate movement from those quarantined areas of birds, poultry, products, and materials that could spread END was prohibited or restricted. Further, because the Secretary of Agriculture declared an extraordinary emergency because of END in those States, the intrastate movement from the quarantined areas of birds, poultry, products, and materials that could spread END was prohibited or restricted, as provided by the regulations in § 82.16.

Quarantine Actions in California

On October 1, 2002, END was confirmed in the State of California. The disease was confirmed in backyard poultry, which are raised on private premises for hobby, exhibition, and personal consumption. Consequently, in an interim rule effective on November 21, 2002, and published in the Federal Register on November 26, 2002 (67 FR 70674-70675, Docket No. 02-117-1), we amended the regulations in § 82.3(c) by designating Los Angeles County, CA, and portions of Riverside and San Bernardino Counties, CA, as quarantined areas.

Subsequent detections of END in backyard and commercial poultry on other premises in California led us to further amend § 82.3(c) in order to quarantine additional areas in that State. Specifically:

• In an interim rule effective on January 7, 2003, and published in the Federal Register on January 13, 2003 (68 FR 1515-1517, Docket No. 02-117-2), we added Imperial, Orange, San Diego, Santa Barbara, and Ventura Counties, CA, and the previously non-quarantined portions of Riverside and San Bernardino Counties, CA, to the list of quarantined areas.

• In an interim rule effective on May 13, 2003, and published in the Federal Register on May 19, 2003 (68 FR 26988-26990, Docket No. 02-117-7), we added a portion of Kern County, CA, to the list of quarantined areas.

As provided for by the regulations in § 82.3(a), these quarantined areas in California encompassed each area where poultry infected with END were located and a surrounding geographical area deemed by epidemiological evaluation to be sufficient to contain all birds or poultry known to be infected with or exposed to END.

Quarantine Actions in Arizona, Nevada, and Texas

In addition to the detections of END in California, the disease was also confirmed in backyard poultry on premises in three other States: In Nevada on January 16, 2003; in Arizona on February 4, 2003; and in Texas on April 9, 2003. Shortly after each of those confirmations, we responded by publishing an interim rule amending § 82.3(c) to designate areas surrounding the affected premises as quarantined areas. Specifically:

• In interim rule effective January 17, 2003, and published in the Federal Register on January 24, 2003 (68 FR 3375-3376, Docket No. 02-117-3), we designated all of Clark County, NV, and a portion of Nye County, NV, as a quarantined area;

• In an interim rule effective February 10, 2003, and published in the Federal Register on February 14, 2003 (68 FR 7412-7413, Docket No. 02-117-4), we designated La Paz and Yuma Counties, AZ, and a portion of Mohave County, AZ, as a quarantined area; and

• In an interim rule effective April 10, 2003, and published in the Federal Register on April 16, 2003 (68 FR 18531-18532, Docket No. 02-117-5), we designated El Paso and Hudspeth Counties, TX, and Dona Ana, Luna, and Otero Counties, NM, as a quarantined area.

As was the case with California, the areas Arizona, Nevada, and Texas that were quarantined in those interim rules encompassed each area where poultry infected with END were located and a surrounding geographical area deemed by epidemiological evaluation to be sufficient to contain all birds or poultry known to be infected with or exposed to END, as provided for by the regulations in § 82.3(a).

Previous Reductions in Quarantined Areas

After evaluating the results of extensive investigations conducted in Arizona, Nevada, New Mexico, and Texas, APHIS epidemiologists determined it was possible to reduce the size of the quarantined areas in those States by eliminating areas in which END had not been found. Thus, in an interim rule effective May 14, 2003, and published in the Federal Register on May 19, 2003 (69 FR 26986-26988, Docket No. 02-117-6), we amended the regulations in § 82.3(c) by reducing the size of the quarantined areas in Nevada and Arizona, leaving only portions of La Paz County, AZ, and Clark County, NV, as quarantined areas in those States. Similarly, in another interim rule effective June 5, 2003, and published in the Federal Register on June 11, 2003 (69 FR 34779-34781, Docket No. 02-117-8), we amended the regulations in § 82.3(c) by reducing the size of the quarantined areas in Texas and eliminating the quarantined areas in New Mexico, leaving only a portion of El Paso County, TX, as a quarantined area in that State.

Additional Reductions in Quarantined Areas

In this interim rule, we are reducing the size of the quarantined area in California and eliminating the last remaining quarantined areas in Arizona, Nevada, and Texas. Except for portions of San Diego County, the areas we are removing from quarantine in California are areas in which END has not been found after extensive surveillance. Our actions with respect to La Paz County, AZ, Clark County, NV, El Paso County, TX, and the remaining portions of San Diego County, CA—areas that had, at one time, contained infected premises—are based upon our determination that those areas meet the criteria contained in § 82.14 of the regulations for release from quarantine. Our basis for these actions is discussed in greater detail below.

Areas in Which END Has Not Been Found

No END-positive premises were detected in Imperial, Orange, or Santa Barbara Counties, CA, or in large areas of Kern, Los Angeles, Riverside, San Bernardino, San Diego, and Ventura Counties, CA. Large parts of these areas are made up of public lands or mountains, desert, or other largely uninhabited terrain. Intense surveillance and testing of both noncommercial and commercial poultry premises was carried out in these areas, also known as the surveillance zone, and resulted in no END-positive premises being detected.

Noncommercial premises. An inventory of at-risk noncommercial premises was developed for the areas targeted for quarantine release. In addition to information previously collected through eradication activities, sources of information included local animal control authorities, local law enforcement, county agricultural officials, extension personnel, and animal welfare workers.

Surveillance efforts were concentrated in areas that had at-risk premises. An at-risk premises was defined as a premises inhabited by poultry, ratites, or an aviary. Within this population, premises considered highest risk were targeted for sampling. High risk premises were defined as any premises with any galliform birds (chickens, turkeys, pheasant, quail, partridge, guinea fowl, pea fowl, etc.), columbiform birds (pigeons, doves), or anseriform birds (ducks, geese, swans). Other factors considered to indicate high risk were multiple owners on the same premises, premises with sick or dead birds, history of movement of birds, and possible contact with an infected premises.

The sampling period was concentrated from March through June 2003, but began as early as January 2003. All sampling of the surveillance zone was completed by early July 2003. At least 6,917 premises with birds were identified in the surveillance zone. The true total number of premises with birds in the surveillance zone is not known, but efforts were made to identify the areas most likely to have at-risk premises.

Overall, a total of 1,811 at-risk premises were sampled from a population of 3,386 at-risk premises in the surveillance zone. Over 23,600 birds were sampled and tested for END virus. None of the samples yielded a positive result.

Table 1.—At-Risk Noncommercial Premises Sampled by County in California
County | Number of premises sampled | County | Number of premises sampled
Imperial | 182 | San Bernardino | 124
Kern | 15 | San Diego | 343
Los Angeles | 39 | Santa Barbara | 349
Orange | 256 | Ventura | 274
Riverside | 229

Commercial premises. Active weekly surveillance of commercial poultry premises in the surveillance zone began in January 2003. All commercial premises with chickens were under weekly active surveillance beginning April 10, 2003, or earlier. All commercial premises have a documented biosecurity protocol in place. Also, these premises must report any significant increase in death losses or the occurrences of clinical signs consistent with END.

A total of 29 commercial poultry premises were located in the surveillance zone in California, of which 17 premises had birds present. The total estimated number of commercial birds on the 17 premises was over 1 million. The other commercial premises were either egg processors, manure haulers, or were void of birds and therefore did not participate in active surveillance. A representative sampling of either live or dead birds from each poultry house was done weekly. Sample collection was done by either an accredited veterinarian or authorized company personnel. No END positive premises were found.

As noted previously, the regulations in § 82.3(a) provide that any area where birds or poultry infected with END are located will be designated as a quarantined area, and that a quarantined area is any geographical area, which may be a premises or all or part of a State, deemed by epidemiological evaluation to be sufficient to contain all birds or poultry known to be infected with or exposed to END.

Animal and Plant Health Inspection Service (APHIS) epidemiologists have evaluated the results of the investigations conducted in California and have determined that we may now reduce the size of the quarantined area in that State. This determination is based on, among other things, the demonstrated absence of birds or poultry infected with or exposed to END in specific areas. The regulations in § 82.14 provide requirements that must be met before an area may be removed from quarantine, but those requirements relate to measures taken with respect to END-infected or -exposed birds and poultry, their eggs and manure, and articles and premises with which such birds or their manure or litter have come in contact. As there were no END-infected or -exposed birds or poultry in Imperial, Orange,¹ and Santa Barbara Counties, CA, or in portions of Kern, Los Angeles, Riverside, San Bernardino, San Diego, and Ventura Counties, CA, there are no requirements under § 82.14 that need to be met before those areas can be removed from quarantine.

¹ Although there were no infected premises in Orange County, a portion of that county will remain as a quarantined area due to its proximity to areas in adjoining counties where infected premises were found.

Areas That Contained Infected Premises

An area where END positive premises have been detected is known as an “infected area.” The infected area in Arizona and in Texas each had one END positive premises. The infected area in Nevada had 10 positive premises detected. None of the infected premises in those three States were commercial poultry premises. The infected area of San Diego County, CA, had 20 infected premises, 7 of which were commercial poultry premises. All birds on all infected premises, and any premises exposed to those infected premises, were depopulated. The date of depopulation on the final END positive premises in each infected area was:

• Clark County, NV: January 29, 2003;

• La Paz County, AZ: February 7, 2003;

• El Paso County, TX: April 7, 2003; and

• San Diego County, CA: April 21, 2003.

Intensive surveillance and testing of both noncommercial and commercial poultry premises was carried out in the infected areas and resulted in no additional END positive premises being detected.

Noncommercial premises. An inventory of at-risk noncommercial premises was developed for the infected areas. Surveillance efforts were then concentrated in portions of the infected areas that had at-risk premises. An at-risk premises was defined as a premises inhabited by poultry, ratites, or an aviary. Within this population, premises considered highest risk were targeted for sampling.

Results of the surveillance conducted in the infected areas in Arizona, Nevada, and Texas were reported in our interim rules of May 19, 2003 (for Arizona and Nevada), and June 11, 2003 (for Texas), cited previously. None of the samples collected was positive for END virus.

In the infected area of San Diego County, CA, all of the sampling was conducted during the 6-week period from June 1 through July 12, 2003. The majority of the sampling of premises was conducted during a 2-week period from June 22 to July 5, 2003. At least 1,126 premises with birds were identified in the area. The true total number of premises with birds in the area is not known, but efforts were made to identify the areas most likely to have at-risk premises.

Overall, a total of 539 at-risk premises were sampled from a population of 701 at-risk premises in the infected area of San Diego County, CA. Over 5,100 birds were sampled and tested for END virus. None of the samples yielded a positive result.

Commercial premises. Active weekly surveillance of commercial poultry premises in the infected area of San Diego County, CA, began in February 2003. All commercial premises with birds have been under weekly active surveillance for at least 6 weeks and have a documented biosecurity protocol in place. Also, these premises must report any significant increase in death losses or the occurrences of clinical signs consistent with END.

A total of 30 commercial poultry premises are located in the infected area, of which 22 premises had birds present. The eight other commercial premises are egg processors and did not participate in active surveillance. Seven of the 22 premises with birds were found to be infected and were depopulated. Two other premises are now void of birds. A representative sampling of either live or dead birds from each poultry house on the remaining 13 premises with birds was performed weekly. Sample collection was done by either an accredited veterinarian or authorized company personnel. No END positive premises were found.

We have determined that all applicable requirements of § 82.14 to remove an area from quarantine have been met with respect to the remaining areas in La Paz County, AZ, San Diego County, CA, Clark County, NV, and El Paso County. Specifically, we have determined the following:

• All birds and poultry exposed to END have been found to be free of END;

• All birds and poultry infected with END have been euthanized;

• All parts of all birds and poultry that were euthanized or that died from any cause other than slaughter, all eggs produced by birds or poultry infected with or exposed to END, and all manure generated by and litter used by birds or poultry infected with or exposed to END have been buried at least 6 feet deep and covered at the time of burial with soil in a location within the quarantined area that meets all U.S. Environmental Protection Agency (EPA), State, and local requirements for landfills;

• All vehicles with which the birds or poultry infected with or exposed to END or their excrement or litter have had physical contact have been cleaned and disinfected in the manner prescribed in § 82.14(f);

• All cages, coops, containers, troughs, and other equipment used for birds or poultry infected with or exposed to END or their excrement or litter have been reduced to ashes by incineration or have been cleaned and disinfected in the manner prescribed in § 82.14(g); and

• The premises where birds or poultry infected with or exposed to END were located have been cleaned and disinfected in the manner prescribed in § 82.14(h).

Conclusion

Based on the information presented above, we are amending § 82.3(c) in this interim rule by removing Imperial and Santa Barbara Counties, CA, and portions of Kern, Los Angeles, Orange, Riverside, San Bernardino, San Diego, and Ventura Counties, CA, from the list of quarantined areas because the continued quarantine of these areas is no longer necessary to contain all birds and poultry infected with or exposed to END. Those portions of Kern, Los Angeles, Orange,² Riverside, San Bernardino, and Ventura Counties, CA, that will remain as quarantined areas, which are described in the amendments to § 82.3(c) at the end of this document, have been deemed by epidemiological evaluation to be sufficient to contain all birds or poultry known to be infected with or exposed to END. In addition, we are also amending the regulations in § 82.3(c) by removing the remaining portions of La Paz County, AZ, San Diego County, CA, Clark County, NV, and El Paso County, TX, from the list of quarantined areas based on our determination that the requirements of § 82.14 have been met with respect to those areas. With this action, there are no longer any areas in Arizona, Nevada, and Texas that are quarantined because of END, and the size of the quarantined area in California is reduced.

² See footnote 1.

Immediate Action

Immediate action is warranted to relieve restrictions that are no longer necessary. We have determined that portions of Arizona, California, Nevada, and Texas may now be removed from the list of areas quarantined because of END. Therefore, immediate action is warranted to relieve the prohibitions or restrictions that have applied to the movement of birds, poultry, products, and other materials from those areas. Under these circumstances, the Administrator has determined that prior notice and opportunity for public comment are contrary to the public interest and that there is good cause under 5 U.S.C. 553 for making this action effective less than 30 days after publication in the Federal Register.

We will consider comments that we receive during the comment period for this interim rule (see DATES above). After the comment period closes, we will publish another document in the Federal Register. The document will include a discussion of any comments we receive and any amendments we are making to the rule.

Executive Order 12866 and Regulatory Flexibility Act

This rule has been reviewed under Executive Order 12866. For this action, the Office of Management and Budget has waived its review under Executive Order 12866.

This rule amends the regulations by removing portions of Arizona, California, Nevada, and Texas from the list of quarantined areas. This action needs to be made effective immediately in order to remove restrictions on the movement of birds, poultry, and certain other articles from those areas that are no longer necessary.

This situation makes timely compliance with section 604 of the Regulatory Flexibility Act (5 U.S.C. 601 et seq.) impracticable. We are currently assessing the potential economic effects of this action on small entities. Based on that assessment, we will either certify that the rule will not have a significant economic impact on a substantial number of small entities or publish a final regulatory flexibility analysis.

Executive Order 12372

This program/activity is listed in the Catalog of Federal Domestic Assistance under No. 10.025 and is subject to Executive Order 12372, which requires intergovernmental consultation with State and local officials. (See 7 CFR part 3015, subpart V.)

Executive Order 12988

This rule has been reviewed under Executive Order 12988, Civil Justice Reform. This rule: (1) Preempts all State and local laws and regulations that are in conflict with this rule; (2) has no retroactive effect; and (3) does not require administrative proceedings before parties may file suit in court challenging this rule.

Paperwork Reduction Act

This interim rule contains no information collection or recordkeeping requirements under the Paperwork Reduction Act of 1995 (44 U.S.C. 3501 et seq.).

List of Subjects in 9 CFR Part 82

Animal diseases, Poultry and poultry products, Quarantine, Reporting and recordkeeping requirements, Transportation.

Accordingly, 9 CFR part 82 is amended as follows:

PART 82—EXOTIC NEWCASTLE DISEASE (END) AND CHLAMYDIOSIS

1. The authority citation for part 82 continues to read as follows:

Authority: 7 U.S.C. 8301-8317; 7 CFR 2.22, 2.80, and 371.4.

2. In § 82.3, paragraph (c), the entries for Arizona, Nevada, and Texas are removed and the entry for California is revised to read as follows:

§ 82.3 Quarantined areas.

* * * * *

(c) * * *

California

Kern County. That portion of the county bounded by a line drawn as follows: Beginning on the Kern/Los Angeles County line at the point where the county line is intersected by an imaginary line running northeast from the intersection of State Highway 126 and the Los Angeles/Ventura County line to the intersection of Tehachapi Willow Springs Road and West 100th Street in the city of Mojave; then northeast along that same imaginary line to the intersection of Tehachapi Willow Springs Road and West 100th Street in the city of Mojave; then north on West 100th Street to Laguna Street; then east on Laguna Street to West 90th Street; then north on West 90th Street to Oak Creek Road; then east on Oak Creek Road to State Highway 14; then south on State Highway 14 to State Highway 58; then east on State Highway 58 to East 30th Street in the city of Mojave; then southeast from that point along an imaginary line to the southeastern corner of Kern County; then west along the Kern/San Bernardino County line to the Kern/Los Angeles County line; then west along the Kern/Los Angeles County line to the point of beginning.

Los Angeles County. That portion of the county bounded by a line drawn as follows: Beginning at the intersection of the Los Angeles/Orange County line and East Willow Street in the city of Long Beach; then west along East Willow Street, West Willow Street, East Sepulveda Boulevard, West Sepulveda Boulevard, and Sepulveda Boulevard to Hawthorne Boulevard; then north on Hawthorne Boulevard to Manhattan Beach Boulevard; then west on Manhattan Beach Boulevard to the Manhattan Beach Pier (coast of the Pacific Ocean); then north and west along the coast of the Pacific Ocean to a point directly south of the intersection of Pacific Coast Highway (State Highway 1) and Malibu Canyon/Las Virgenes Road (County Highway N1); then north from that point to and on Malibu Canyon/Las Virgenes Road to Mulholland Drive; then west on Mulholland Drive to Kanan Road; then north on Kanan Road to U.S. Highway 101; then west on U.S. Highway 101 to the Los Angeles/Ventura County line; then northeast, east, north, east, and north along the Los Angeles/Ventura County line to State Highway 126; then northeast to the point where the Los Angeles/Kern County line is intersected by an imaginary line drawn between the intersection of the Los Angeles/Ventura County line and State Highway 126 and the intersection of Tehachapi Willow Springs Road and West 100th Street (the latter intersection is in the city of Mojave); then east along the Los Angeles/Kern County line to the Los Angeles/San Bernardino County line; then south along the Los Angeles/San Bernardino County line to the Los Angeles/Orange County line; then west, south, and southwest along the Los Angeles/Orange County line to the point of beginning.

Orange County. That portion of the county that lies north of a line drawn as follows: Beginning at the intersection of the Orange/Riverside County line and State Highway 91; then west on State Highway 91 to State Highway 90 (Imperial Highway); then northwest on State Highway 90 to State Highway 39 (Beach Boulevard); then south on State Highway 39 to Katella Avenue; then west on Katella Avenue to the Los Angeles/Orange County line.

Riverside County. That portion of the county bounded by a line drawn as follows: Beginning at the intersection of the San Bernardino County line and the eastern city limit of Cherry Valley; then south along the eastern city limit of Cherry Valley to Highland Springs Avenue; then south on Highland Springs Avenue to Interstate Highway 10; then west on Interstate Highway 10 to State Highway 79 (Lambs Canyon Road); then south on State Highway 79 to State Highway 74; then west on State Highway 74 to State Street in the city of Hemet; then south on State Street to Diamond Valley Road; then west on Diamond Valley Road to Palm Avenue; then south on Palm Avenue to De Portola Road; then south on De Portola Road to East Benton Road; then southeast from that point along an imaginary line to the intersection of Sage Road and State Highway 79; then east on State Highway 79 to State Highway 371; then southeast to the point where the Riverside/San Diego County line is intersected by an imaginary line drawn between the intersection of State Highway 79 and State Highway 371 and the intersection of State Highway 78 and West Side Road (the latter intersection is in San Diego County); then west along the Riverside/San Diego County line to the point where that line turns from northeast to due west; then northwest from that point along an imaginary line to the Riverside/Orange County line at the point where it turns from northeast to northwest (west of the city of Lake Elsinore); then northwest from that point along the Riverside/Orange County line to the Riverside/San Bernardino County line; then north and east along the Riverside/San Bernardino County line to the point of beginning.

San Bernardino County. That portion of the county that lies south and west of a line drawn as follows: Beginning at the Kern/San Bernardino County line at the southeastern corner of Kern County; then southeast from that point along an imaginary line to the intersection of Stoddard Wells Road and Dale Evans Parkway in the town of Apple Valley; then south on Dale Evans Parkway to Waalew Road; then east on Waalew Road to the Apple Valley town limit; then southeast from that point along an imaginary line to the intersection of State Highway 247 and Northside Road; then east on Northside Road to Meridian Road; then south on Meridian Road to Cambria Road; then east on Cambria Road to Post Office Road; then south on Post Office Road to State Highway 18; then southwest from that point along an imaginary line to the intersection of State Highway 18 and State Highway 38 (North Shore Drive) located west of the city of Big Bear Lake; then south from that point along an imaginary line to the San Bernardino/Riverside County line at the point where that county line turns from west to south just northwest of the city of Banning.

Ventura County. That portion of the county bounded by a line drawn as follows: Beginning at the intersection of the Ventura/Los Angeles County line and U.S. Highway 101; then west on U.S. Highway 101 to State Highway 34 (North Lewis Road); then north on State Highway 34 to State Highway 118; then northeast along an imaginary line to the intersection of Old Telegraph Road and State Highway 126; then east on State Highway 126 to the Ventura/Los Angeles County line; then south along the Ventura/Los Angeles County line to the point of beginning.

Done in Washington, DC, this 30th day of July 2003.
Peter Fernandez,
Acting Administrator, Animal and Plant Health Inspection Service.

[FR Doc. 03-19695 Filed 8-1-03; 8:45 am]

BILLING CODE 3410-34-P